DEPARTMENT OF TRANSPORTATION

Federal Transit Administration

Intent To Prepare an Environmental Impact Statement for Proposed Transit Improvements to the Yellow Line, Cook County, IL

AGENCY: Federal Transit Administration (FTA), Department of Transportation.

ACTION: Notice of Intent to Prepare an Environmental Impact Statement.

SUMMARY: The FTA, as the Federal lead agency, and the Chicago Transit Authority (CTA) intend to prepare an environmental impact statement (EIS) for the Yellow Line Extension Project in Cook County, Illinois. CTA operates the rapid transit system in Chicago, Cook County, Illinois. The proposed project, described more completely within, would extend the Yellow Line, a heavy rail transit line, to connect the Dempster Street Station to Old Orchard Road. The purpose of this Notice of Intent is to alert interested parties regarding the intent to prepare the EIS, to provide information on the nature of the proposed project and possible alternatives and to invite public participation in the EIS process.

DATES: Written comments on the scope of the EIS, including the project's purpose and need, the alternatives to be considered, the impacts to be evaluated, and the methodologies to be used in the evaluations should be sent to CTA on or before October 27, 2009. See ADDRESSES below for the address to which written public comments may be sent. A public scoping meeting to accept comments on the scope of the EIS will be held on the following date:

• Wednesday, September 23, 2009; 6 p.m. to 8 p.m.; at the Oakton Community Center, 4701 Oakton Street, Skokie, IL 60076.

The buildings used for the scoping meetings are accessible to persons with disabilities. Any individual who requires special assistance, such as a sign language interpreter, to participate in the scoping meeting should contact Mr. Darud Akbar, Government and Community Relations Officer, at 312-681-2708 or dakbar@transitchicago.com, five days prior to the meeting.

Scoping materials describing the project purpose and need and the alternatives proposed for analysis will be available at the meetings and on the CTA Web site http://www.transitchicago.com/YellowEIS. Paper copies of the scoping materials may also be obtained from Mr. Darud Akbar, Government and Community Relations Officer, at 312-681-2708 or dakbar@transitchicago.com. An interagency scoping meeting will be held on Thursday, September 24 at 8 a.m. at CTA Headquarters, in Conference Room 2C, 567 W. Lake Street, Chicago, IL 60661. Representatives of Native American tribal governments and of all Federal, State, regional and local agencies that may have an interest in any aspect of the project will be invited to be participating or cooperating agencies, as appropriate.

ADDRESSES: Comments will be accepted at the public scoping meetings or they may be sent to Mr. Jeffrey Busby, General Manager, Strategic Planning, Chicago Transit Authority, P.O. Box 7602, Chicago, IL 60680-7602, or via e-mail at YellowExtension@transitchicago.com.

FOR FURTHER INFORMATION CONTACT: Mr. David Werner, Community Planner, Federal Transit Administration, Region V, 200 West Adams Street, Suite 320, Chicago, IL 60606, phone 312-353-3879, e-mail david.werner@dot.gov.

SUPPLEMENTARY INFORMATION:

Scoping

The FTA and CTA invite all interested individuals and organizations, public agencies, and Native American Tribes to comment on the scope of the EIS, including the project's purpose and need, the alternatives to be studied, the impacts to be evaluated, and the evaluation methods to be used. Comments should address (1) Alternatives that may better achieve the project's need and purposes at less cost or with fewer adverse impacts, and (2) any significant environmental impacts relating to the alternatives.

National Environmental Policy Act (NEPA) “scoping” (40 CFR 1501.7) has specific and fairly limited objectives, one of which is to identify the significant issues associated with alternatives that will be examined in detail in the document, while simultaneously limiting consideration and development of issues that are not truly significant. It is in the NEPA scoping process that potentially significant environmental impacts—those that give rise to the need to prepare an environmental impact statement—should be identified; impacts that are deemed not to be significant need not be developed extensively in the context of the impact statement, thereby keeping the statement focused on impacts of consequence. Transit projects may also generate environmental benefits; these should be highlighted as well—the impact statement process should draw attention to positive impacts, not just negative impacts.

Once the scope of the environmental study, including significant environmental issues to be addressed, is settled, an annotated outline of the document will be prepared and shared with interested agencies and the public. The outline serves at least three worthy purposes, including (1) Documenting the results of the scoping process; (2) contributing to the transparency of the process; and (3) providing a clear roadmap for concise development of the environmental document.

Purpose and Need for the Project

The purpose of the Yellow Line Extension project is to improve transit accessibility and provide mobility options by better utilizing existing transportation infrastructure capacity. The investment would also support the Village of Skokie's land use plans.

The need for the project is based on the following considerations: There is a significant reverse commute to the project area that is not well served by the current Yellow Line terminal location; travelers on the existing system must make multiple transfers to reach activity and employment centers in the project area; and transit alternatives will allow a portion of study area trips to avoid continued growth in project area arterial street and expressway congestion. In addition, proposed extensions of the CTA Yellow Line from its current terminus at Dempster Street are part of the Chicago region's long range transportation plan developed by the Chicago Metropolitan Agency for Planning (CMAP).

Project Location and Environmental Setting

The proposed heavy rail transit (HRT) project area lies about 12 miles north of the Chicago Central Area (commonly referred to as the “Loop”). The limits of the project area are Dempster Street on the south and Old Orchard Road on the north. The project area is bounded by Interstate 94 (Edens Expressway) on the west and lies within the Village of Skokie. The project area is highly developed, with significant residential (primarily single family), institutional facilities (government offices and schools), transportation and commercial (retail and office) developments.

The locally preferred alternative (LPA) for the proposed Yellow Line Extension project was approved by the Chicago Transit Board for further study in the EIS on August 12, 2009. The proposed Yellow Line Extension would extend the heavy rail transit line from Dempster Street Station, the current terminus of the Yellow Line, north along the Union Pacific Railroad (UPRR) right-of-way from Dempster Street to the vicinity of Old Orchard Road. The extension would include 1.6 new route miles of rapid transit added to the existing Yellow Line, reconfiguration of the existing Dempster Street Station, and a new station in the vicinity of Old Orchard Road with bus access and parking facilities.

Alternatives

The Yellow Line Extension Final Alternatives Analysis Report (2009) prepared by CTA identified three alternatives for further consideration in the EIS. The three alternatives include: A No Build Alternative, Transportation System Management (TSM) Alternative, and the Fixed Guideway Alternative (the LPA).

No Build Alternative: The No Build Alternative is defined as the existing transportation system, plus any committed transportation improvements. Committed transportation improvements include projects that are already in the CMAP financially constrained Transportation Improvement Program (TIP). The Yellow Line project area has a number of projects included in the FY 2007—2012 TIP.

There are three intersection improvements along Skokie Boulevard in the TIP including the intersections of Dempster Street, Golf Road and Old Orchard Road. Road improvements in the TIP that would most affect the Yellow Line extension project area are the widening of Old Orchard Road from Harms Road to Skokie Boulevard and the expansion of the northbound Edens off-ramp lanes. In addition to a variety of resurfacing projects, Dempster Street is scheduled to be reconstructed and widened to Central Road.

Bus transit service under the No Build Alternative would be focused on the preservation of existing services and projects. Although outside the project area, a significant transit improvement included in the No Build Alternative is the construction of a Yellow Line station at Oakton Street to serve the Skokie downtown and surrounding developments. All elements of the No Build Alternative are included in each of the other alternatives.

Transportation System Management (TSM) Alternative: A TSM Alternative is proposed because it is required as part of the New Starts evaluative process; in this case, it does not meet the purposes of and need for the proposed project. The TSM Alternative is Bus Rapid Transit (BRT) that would operate on a 1.7 mile alignment between the Yellow Line Dempster Street Station and Westfield Shoppingtown Old Orchard Mall via Dempster Street, Niles Center Road, Skokie Boulevard, Golf Road, and Lavergne Avenue. Proposed BRT service would operate in mixed traffic with traffic signal priority on the Dempster Street, Niles Center Road, Skokie Boulevard, and Golf Road portion of the route.

The TSM Alternative would not include any intermediate stops. There would be no exclusive lanes along any portion of the route. The terminal stop would be at the existing bus transfer station located on the east side of Old Orchard Mall. A new park and ride facility would be constructed near the proposed terminal stop at Old Orchard Road. The TSM alternative assumes that all bus routes in the study area will continue current operations.

Fixed Guideway Alternative/LPA: The proposed LPA would proceed northbound on a single track alignment within the UPRR right-of-way from Dempster Street to the area north of Golf Road. Beginning north of Golf Road, the alignment curves east, paralleling the east side of the Edens Expressway on an elevated profile to the proposed terminal location on the south side of Old Orchard Road. The elevated profile eliminates grade crossings between Dempster Street and Old Orchard Road.

The LPA would include a new station at Dempster Street to accommodate longer length trains and support bi-directional ridership demands. The elevated alignment would place the new station centered above Dempster Street providing enhanced station accessibility from the north and south parking areas without requiring pedestrians to cross Dempster Street. Bus transfer, taxi, entrance and parking areas at the Dempster Station would be reconfigured for the new elevated station.

The terminal station would be located east of the expressway and in the northwest portion of the Niles North High School (NNHS) property. The transit station and associated facilities would displace up to 230 parking spaces currently in the NNHS lot to the north of the campus. These spaces would be replaced by a multi-story parking structure with dedicated school parking (to replace all displaced parking spaces) and dedicated commuter parking.

The LPA is 1.6 miles long and would not include any intermediate stops. CTA and Pace bus services would be rerouted to pass through an off-street facility on the east side of the rapid transit station and continue to the existing bus transfer station at Old Orchard Mall.

No existing residences, businesses, or park/recreational areas would have to be acquired to accommodate the HRT single-track extension between Dempster Street and Golf Road. Some right-of-way would need to be acquired from the Illinois Department of Transportation along the Edens Expressway and land would need to be acquired from the NNHS property.

Possible Effects

The purpose of this EIS process is to study, in a public setting, the effects of the proposed project and its alternatives on the quality of the human environment. Areas of investigation for transit projects generally include, but are not limited to: Land use, development potential, land acquisition and displacements, historic resources, visual and aesthetic qualities, air quality, noise and vibration, energy use, safety and security, and ecosystems, including threatened and endangered species; investigation may reveal that the proposed project will not affect or affect substantially many of those areas. Measures to avoid, minimize, or mitigate any significant adverse impacts will be identified.

FTA Procedures

The regulations implementing NEPA, as well as provisions of the Safe, Accountable, Flexible, Efficient Transportation Equity Act: A Legacy for Users (SAFETEA-LU), call for public involvement in the EIS process. Section 6002 of SAFETEA-LU requires that FTA and CTA do the following: (1) Extend an invitation to other Federal and non-Federal agencies and Native American tribes that may have an interest in the proposed project to become “participating agencies;” (2) provide an opportunity for involvement by participating agencies and the public to help define the purpose and need for a proposed project, as well as the range of alternatives for consideration in the EIS; and (3) establish a plan for coordinating public and agency participation in, and comment on, the environmental review process. An invitation to become a participating or cooperating agency, with scoping materials appended, will be extended to other Federal and non-Federal agencies and Native American tribes that may have an interest in the proposed project. It is possible that FTA and CTA will not be able to identify all Federal and non-Federal agencies and Native American tribes that may have such an interest. Any Federal or non-Federal agency or Native American tribe interested in the proposed project that does not receive an invitation to become a participating agency should notify at the earliest opportunity the Project Manager identified above under ADDRESSES.

A comprehensive public involvement program and a Coordination Plan for public and interagency involvement will be developed for the project and posted on CTA's Web site http://www.transitchicago.com/YellowEIS. The public involvement program includes a full range of activities including maintaining the project webpage on the CTA Web site and outreach to local officials, community and civic groups, and the public. Specific activities or events for involvement will be detailed in the project's public participation plan.

The Paperwork Reduction Act seeks, in part, to minimize the cost to the taxpayer of the creation, collection, maintenance, use, dissemination, and disposition of information. Consistent with this goal and with principles of economy and efficiency in government, it is FTA policy to limit insofar as possible distribution of complete printed sets of environmental documents. Accordingly, unless a specific request for a complete printed set of environmental documents is received (preferably in advance of printing), FTA and its grantees will distribute only the executive summary of the environmental document together with a Compact Disc of the complete environmental document. A complete printed set of the environmental document is available for review at the grantee's offices and elsewhere; an electronic copy of the complete environmental document is also available on the grantee's Web page.

CTA may seek New Starts funding for the proposed project under 49 United States Code 5309 and will, therefore, be subject to New Starts regulations (49 Code of Federal Regulations (CFR) part 611). The New Starts regulations also require the submission of certain project-justification information to support a request to initiate preliminary engineering. This information is normally developed in conjunction with the NEPA process. Pertinent New Starts evaluation criteria will be included in the EIS.

The EIS will be prepared in accordance with NEPA and its implementing regulations issued by the Council on Environmental Quality (40 CFR parts 1500-1508) and with the FTA/Federal Highway Administration regulations “Environmental Impact and Related Procedures” (23 CFR part 771).

Issued on August 24, 2009.
Marisol R. Simon,
Regional Administrator, Federal Transit Administration, Region V.

[FR Doc. E9-20964 Filed 8-31-09; 8:45 am]

BILLING CODE 4910-57-P